DEPARTMENT OF THE INTERIOR

Bureau of Land Management

[CA-170-1430-EU; CACA 41111]

Realty Action; Direct Sales of Public Lands in Mono County, CA

AGENCY: Bureau of Land Management, Interior.

ACTION: Notice.

SUMMARY: The following described public lands in Mono County, California, are being considered for 2 direct sales under sections 203 and 209 of the Federal Land Policy and Management Act of 1976 (90 Stat. 2750, 43 U.S.C. 1713 and 1719), at fair market value. The parcels proposed for sale are identified as suitable for disposal in the amended Bishop Resource Management Plan, June 18, 2004.

DATES: Submit comments on or before November 1, 2004.

ADDRESSES: Submit comments on the proposed sales to the Bureau of Land Management (BLM), Bishop Field Manager, 351 Pacu Lane, Suite 100, Bishop, CA 93514.

FOR FURTHER INFORMATION CONTACT: BLM Bishop Field Office, 351 Pacu Lane, Suite 100, Bishop, CA 93514 or Larry Primosch at (760) 872-5031.

SUPPLEMENTARY INFORMATION: The Bridgeport Indian Colony (Tribe) has a 40-acre reservation near Bridgeport, CA and desires to acquire public land adjacent to the reservation to provide for employment, housing, economic development, and community services. Based on a 1995 feasibility analysis and the Tribe's 2003 development plan, the proposed use of the land would be for 10 residential houses, mini-mart, cultural center, gas station, RV park, mini-storage facility, community recreation center, and open space. It is expected that tribal members would be employed for the construction phase and operation of the businesses once established. Two lots are proposed for sale to the Tribe and are described as follows:

Mount Diablo Meridian, California

T. 5 N., R. 25 E., Sec. 28,

Lots 1 and 2; totaling 31.86 acres.

Two lots at the same location, one containing the highway right-of way, are proposed for sale to the State of California, Transportation Department (Caltrans). The lands proposed for sale are described as follows:

Mount Diablo Meridian, California

T. 5 N., R. 25 E., Sec. 28,

Lots 3 and 4; totaling 8.51 acres.

Direct Sale is appropriate because: The parcels are considered unmanageable; the parcels are in proximity to the Indian reservation; the lands are identified for transfer to a State or local government; and numerous rights-of-way encumber the parcels, some held by the Reservation or Caltrans. Both sales will be phased to accommodate scientific data recovery on a cultural site within the parcels. Final decisions on the sale proposals will be made following additional public comment prior to completion of an environmental analysis. A BLM appraisal dated June 10, 2004, estimated the Fair Market Value at $2,000 per acre. The appraisal is available at the BLM, Bishop Field Office. The mineral estate has been determined to be of no value.

The patent(s) will be subject to the following rights-of-way:

CAS 2240 SCE Power line;

CAS 059135 GTE (Verizon) Telephone line;

CACA 6432 GTE (Verizon) Underground telephone cable;

CACA 42666 Verizon Fiber Optic line;

CACA 6044 Indian Health Services, Pipeline and Power line;

CACA 4083 BIA Road, dike, ditch and fill area;

CACA 8757 Bridgeport PUC Pipeline;

CACA 5332 SCE Power line, guy and anchor point;

The patents will also contain a reservation for ditches and canals.

On September 15, 2004, the public lands described above are segregated from all forms of appropriation under the public land laws, including the mining laws until June 13, 2005. The segregative effect shall terminate as provided by 43 CFR 2711.1-2(d) and 2720.1-1(b).

Dated: July 22, 2004.
Joseph Pollini,
Acting Field Manager, Bishop Field Office.

[FR Doc. 04-20754 Filed 9-14-04; 8:45 am]

BILLING CODE 4310-40-P